DEPARTMENT OF COMMERCE

National Oceanic and Atmospheric Administration

RIN 0648-XK54

Marine Mammals; File No. 13602

AGENCY: National Marine Fisheries Service (NMFS), National Oceanic and Atmospheric Administration (NOAA), Commerce.

ACTION: Notice; issuance of permit amendment.

SUMMARY: Notice is hereby given that Dr. Terrie Williams, Long Marine Lab, Institute of Marine Sciences, University of California at Santa Cruz, 100 Shaffer Road, Santa Cruz, CA has been issued a major amendment to Permit No. 13602.

ADDRESSES: The permit amendment and related documents are available for review upon written request or by appointment in the following office(s):

Permits, Conservation and Education Division, Office of Protected Resources, NMFS, 1315 East-West Highway, Room 13705, Silver Spring, MD 20910; phone (301) 713-2289; fax (301) 713-0376;

Southwest Region, NMFS, 501 West Ocean Blvd., Suite 4200, Long Beach, CA 90802-4213; phone (562) 980-4001; fax (562) 980-4018; and

Pacific Islands Region, NMFS, 1601 Kapiolani Blvd., Room 1110, Honolulu, HI 96814-4700; phone (808) 944-2200; fax (808) 973-2941.

FOR FURTHER INFORMATION CONTACT: Amy Sloan or Jennifer Skidmore, (301) 713-2289.

SUPPLEMENTARY INFORMATION: On May 20, 2010, notice was published in the Federal Register (75 FR 28236) that a request for an amendment Permit No. 13602 to conduct research on captive and rehabilitating threatened and endangered marine mammals had been submitted by the above-named applicant. On December 8, 2010, notice was published in the Federal Register (75 FR 76399) that changes to the application were requested.

The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit holder is authorized to conduct physiological research on captive Hawaiian monk seals (Monachus schauinslandi) in facilities in the United States, and opportunistic energetic assessments on stranded ESA-listed marine mammals under NMFS jurisdiction undergoing rehabilitation in California, using methods currently approved in Permit No. 13602. In addition to the energetic assessments, the following research is authorized on captive Hawaiian monk seals: Deuterium oxide and Evan's blue administration, blood sampling, blubber ultrasound; and administration of thyroid stimulating hormone and fecal sampling. The amendment has been issued for the duration of the permit.

An environmental assessment (EA) analyzing the effects of the permitted activities on the human environment was prepared in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI).

As required by the ESA, issuance of this permit was based on a finding that such permit: (1) Was applied for in good faith; (2) will not operate to the disadvantage of such endangered species; and (3) is consistent with the purposes and policies set forth in section 2 of the ESA.

Dated: February 3, 2011.
P. Michael Payne,
Chief, Permits, Conservation and Education Division, Office of Protected Resources, National Marine Fisheries Service.

[FR Doc. 2011-2982 Filed 2-10-11; 8:45 am]

BILLING CODE 3510-22-P